DEPARTMENT OF DEFENSE

GENERAL SERVICES ADMINISTRATION

NATIONAL AERONAUTICS AND SPACE ADMINISTRATION

48 CFR Chapter 1

Federal Acquisition Circular 2001-11; Introduction

AGENCIES: Department of Defense (DoD), General Services Administration (GSA), and National Aeronautics and Space Administration (NASA).

ACTION: Summary presentation of final and interim rules.

SUMMARY: This document summarizes the Federal Acquisition Regulation (FAR) rules agreed to by the Civilian Agency Acquisition Council and the Defense Acquisition Regulations Council in this Federal Acquisition Circular (FAC) 2001-11. A companion document, the Small Entity Compliance Guide (SECG), follows this FAC. The FAC, including the SECG, is available via the Internet at http://www.arnet.gov/far.

DATES: For effective dates and comment dates, see separate documents which follow.

FOR FURTHER INFORMATION CONTACT: The FAR Secretariat, Room 4035, GS Building, Washington, DC 20405, (202) 501-4755, for information pertaining to status or publication schedules. For clarification of content, contact the analyst whose name appears in the table below in relation to each FAR case or subject area. Please cite FAC 2001-11 and specific FAR case number(s). Interested parties may also visit our Web site at http://www.arnet.gov/far.

Item | Subject | FAR case | Analyst
I | Special Simplified Procedures For Purchases of Commercial Items in Excess of the Simplified Acquisition Threshold | 2002-028 | Moss
II | Section 508 Micro-purchase Exception Sunset Provision | 2002-012 | Nelson.

SUPPLEMENTARY INFORMATION: Summaries for each FAR rule follow. For the actual revisions and/or amendments to these FAR cases, refer to the specific item number and subject set forth in the documents following these item summaries.

FAC 2001-11 amends the FAR as specified below:

Item I—Special Simplified Procedures for Purchases of Commercial Items in Excess of the Simplified Acquisition Threshold (FAR Case 2002-028)

This final rule amends FAR Subpart 13.5 to extend the expiration date of the test of special simplified procedures for purchases of commercial items greater than the simplified acquisition threshold but not exceeding $5,000,000 to January 1, 2004. This change implements Section 812 of the National Defense Authorization Act for Fiscal Year 2003 (Pub. L. 107-314). Section 812 amended Section 4202(e) of the Clinger-Cohen Act of 1996 (Divisions D and E of Public Law 104-106; 110 Stat. 654; 10 U.S.C. 2304 note).

Item II—Section 508 Micro-Purchase Exception Sunset Provision (FAR Case 2002-012)

This interim rule extends the Electronic and Information Technology (Section 508) micro-purchase exception to October 1, 2004. This rule is of special interest to contracting officers and other individuals designated in accordance with FAR 1.603-3.

Dated: December 20, 2002.
Jeremy F. Olson,
Acting Director, Acquisition Policy Division.

Federal Acquisition Circular

Federal Acquisition Circular (FAC) 2001-11 is issued under the authority of the Secretary of Defense, the Administrator of General Services, and the Administrator for the National Aeronautics and Space Administration.

Unless otherwise specified, all Federal Acquisition Regulation (FAR) and other directive material contained in FAC 2001-11 are effective January 1, 2003.

Dated: December 20, 2002.

Deidre A. Lee,

Director, Defense Procurement and Acquisition Policy.

Dated: December 19, 2002.

David A. Drabkin,

Deputy Associate Administrator, Office of Acquisition Policy, General Services Administration.

Dated: December 19, 2002.

Tom Luedtke,

Assistant Administrator for Procurement, National Aeronautics and Space Administration.

[FR Doc. 02-32741 Filed 12-30-02; 8:45 am]

BILLING CODE 6820-EP-P